FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 29, 2015.

A. Federal Reserve Bank of Kansas City (Dennis Denney, Assistant Vice President) 1 Memorial Drive, Kansas City, Missouri 64198-0001:

1. Rick Chochon, Columbus, Nebraska; R&T Capital, LLC, Columbus, Nebraska; Revocable Trust Agreement of Thomas K. Hermansen and Charlene A. Hermansen (Trust), Cassville, Missouri; Charlene Hermansen, Cassville, Missouri, individually and as trustee of Trust; Lance Hermansen, St. Libory, Nebraska; Scott Mueller, Columbus, Nebraska; Jordan Mueller, Columbus, Nebraska; Brandon Mueller, Lincoln, Nebraska; Bruce Mueller, Columbus, Nebraska; and Rod Hassebrook, Platte Center, Nebraska; to acquire shares of Rae Valley Financials, Inc., Petersburg, Nebraska, and thereby indirectly acquire Petersburg State Bank, Petersburg, Nebraska.

B. Federal Reserve Bank of Dallas (Robert L. Triplett III, Senior Vice President) 2200 North Pearl Street, Dallas, Texas 75201-2272:

1. Kent Steven McKinney and Janet Martin McKinney, as trustees of the McKinney Living Revocable Trust u/a/d 8/3/99, all of Kerrville, Texas, individually, and together with the trust constituting a “McKinney Family Control Group”; to acquire shares of Relationship Financial Corporation, and thereby indirectly acquire Guadalupe National Bank, both of Kerrville, Texas.

Board of Governors of the Federal Reserve System, October 9, 2015.
Michael J. Lewandowski,
Associate Secretary of the Board.

[FR Doc. 2015-26267 Filed 10-14-15; 8:45 am]

BILLING CODE 6210-01-P